DEPARTMENT OF COMMERCE

International Trade Administration

[A-122-822]

Notice of Rescission, in Part, of Antidumping Duty Administrative Review: Corrosion-Resistant Carbon Steel Flat Products From Canada

AGENCY: Import Administration, International Trade Administration, Department of Commerce.

EFFECTIVE DATE: April 7, 2005.

FOR FURTHER INFORMATION CONTACT: Candice Kenney Weck or Sean Carey at (202) 482-0938 and (202) 482-3964, respectively; AD/CVD Operations, Office 6, Import Administration, International Trade Administration, U.S. Department of Commerce, 14th Street and Constitution Avenue, NW., Washington, DC 20230.

SUPPLEMENTARY INFORMATION:

Background

The Department received timely requests for an administrative review of the antidumping duty order on corrosion-resistant carbon steel flat products from Canada, with respect to Dofasco Inc. (Dofasco), Impact Steel Canada, Ltd. (Impact Steel), and Stelco Inc. (Stelco). On September 22, 2004, the Department published the initiation of an administrative review of Dofasco, Impact Steel, and Stelco, covering the period August 1, 2003, through July 31, 2004. See Initiation of Antidumping and Countervailing Duty Administrative Reviews and Request for Revocation in Part (69 FR 56745). On November 12, 2004, Impact Steel timely withdrew its request for an administrative review. The request was the only request for an administrative review of Impact Steel.

Rescission, in Part, of the Administrative Review

Pursuant to the Department's regulations, the Department will rescind an administrative review “if a party that requested the review withdraws the request within 90 days of the date of publication of notice of initiation of the requested review.” See 19 CFR 351.213(d)(1). Since Impact Steel submitted a timely withdrawal of its request for review, and since this was the only request for a review of Impact Steel, the Department is rescinding its antidumping administrative review of Impact Steel in accordance with 19 CFR 351.213(d)(1). Based on this rescission, the administrative review of the antidumping duty order on corrosion-resistant carbon steel flat products from Canada covering the period August 1, 2003, through July 31, 2004, now covers the following companies: Dofasco and Stelco.

We are issuing and publishing this determination and notice in accordance with section 777(i) of the Act and 19 CFR 351.213(d)(4).

Dated: April 1, 2005.
Barbara E. Tillman,
Acting Deputy Assistant Secretary for Import Administration.

[FR Doc. E5-1615 Filed 4-6-05; 8:45 am]

BILLING CODE 3510-DS-P